GENERAL ACCOUNTING OFFICE

Notice of Meetings

AGENCY: Federal Accounting Standards Advisory Board.

ACTION: Notice of meetings through June 2001.

Board Action: Pursuant to the Federal Advisory Committee Act (Pub. L. No. 92-463), as amended, and the FASAB Rules of Procedure, as amended in October, 1999, notice is hereby given that the Federal Accounting Standards Advisory Board (FASAB) will meet on Thursday, December 7 and Friday, December 8 from 9 a.m. to 4 p.m. in room 6N30, 441 G St., NW., Washington, DC.

The purpose of the meeting is to discuss issues related to:

—National Defense PP&E;

—Stewardship Reporting;

—Corrections of Errors through Prior Period adjustments;

—Charter and Operating Procedures for the Accounting and Auditing Policy Committee;

—Technical Agenda; and

—Outreach.

A Steering Committee meeting of the Board's Principal Board members will be held in conjunction with the Board meeting. A more detailed agenda can be obtained from the FASAB website (www.financenet.gov/fasab.htm after November 30, 2000.

Following the December meeting, the schedule for the next three meetings of the Board is as follows:

—Thursday and Friday, February 22 and 23, 2001;

—Thursday and Friday, April 26 and 27, 2001; and

—Monday and Tuesday, June 18 and 19, 2001.

The purpose of these meetings will be to discuss issues related to:

—Stewardship Reporting;

—National Defense Property, Plant & Equipment;

—Deletion of Paragraph 65.2—Material Revenue—Related Transaction Disclosures;

—Natural Resources;

—Correction of Errors Through Prior Period Adjustments;

—Codification of FASAB Standards;

—Accounting and Auditing Policy Committee issues; and

—Any other topics as needed.

A Steering Committee meeting of the Board's Principal Board members will be held in conjunction with each of the Board meetings. A more detailed agenda for each Board meeting can be seen on the FASAB website www.financenet.gov/fasab.htm one week prior to each meeting. The location of each meeting will be given in the website agenda.

Any interested person may attend the meetings as an observer. Board discussion and reviews are open to the public. GAO Building security requires advance notice of your attendance. For the December meeting, please notify FASAB by December 6 of your planned attendance by calling 202-512-7350, and for the subsequent meetings one day prior to the respective meeting.

FOR FURTHER INFORMATION CONTACT: Wendy Comes, Executive Director, 441 G St., NW., Mailstop 6K17V, Washington, DC 20548, or call (202) 512-7350.

Authority: Federal Advisory Committee Act. Pub. L. No. 92-463.

Dated: November 13, 2000.
Wendy M. Comes,
Executive Director.

[FR Doc. 00-29418 Filed 11-16-00; 8:45 am]

BILLING CODE 1610-01-M